DEPARTMENT OF ENERGY

Federal Energy Regulatory Commission

Combined Notice of Filings #1

Take notice that the Commission received the following exempt wholesale generator filings:

Docket Numbers: EG25-263-000.

Applicants: Colorado Clean Energy Center LLC.

Description: Colorado Clean Energy Center, LLC submits Notice of Self-Certification of Exempt Wholesale Generator Status.

Filed Date: 3/28/25.

Accession Number: 20250328-5368.

Comment Date: 5 p.m. ET 4/18/25.

Docket Numbers: EG25-264-000.

Applicants: North Pecos Clean Energy Center LLC.

Description: North Pecos Clean Energy Center, LLC submits Notice of Self-Certification of Exempt Wholesale Generator Status.

Filed Date: 3/28/25.

Accession Number: 20250328-5370.

Comment Date: 5 p.m. ET 4/18/25.

Docket Numbers: EG25-265-000.

Applicants: Matagorda Clean Energy Center LLC.

Description: Matagorda Clean Energy Center, LLC submits Notice of Self-Certification of Exempt Wholesale Generator Status.

Filed Date: 3/28/25.

Accession Number: 20250328-5379.

Comment Date: 5 p.m. ET 4/18/25.

Docket Numbers: EG25-266-000.

Applicants: Fort Stockton Clean Energy Center LLC.

Description: Fort Stockton Clean Energy Center, LLC submits Notice of Self-Certification of Exempt Wholesale Generator Status.

Filed Date: 3/28/25.

Accession Number: 20250328-5395.

Comment Date: 5 p.m. ET 4/18/25.

Docket Numbers: EG25-267-000.

Applicants: South Pecos Clean Energy Center LLC.

Description: South Pecos Clean Energy Center, LLC submits Notice of Self-Certification of Exempt Wholesale Generator Status.

Filed Date: 3/28/25.

Accession Number: 20250328-5398.

Comment Date: 5 p.m. ET 4/18/25.

Docket Numbers: EG25-268-000.

Applicants: Columbus Clean Energy Center LLC.

Description: Columbus Clean Energy Center LLC submits Notice of Self-Certification of Exempt Wholesale Generator Status.

Filed Date: 3/28/25.

Accession Number: 20250328-5408.

Comment Date: 5 p.m. ET 4/18/25.

Docket Numbers: EG25-269-000.

Applicants: Badger Clean Energy Center LLC.

Description: Badger Clean Energy Center, LLC submits Notice of Self-Certification of Exempt Wholesale Generator Status.

Filed Date: 3/28/25.

Accession Number: 20250328-5415.

Comment Date: 5 p.m. ET 4/18/25.

Docket Numbers: EG25-270-000.

Applicants: Andrews North Clean Energy Center LLC.

Description: Andrews North Clean Energy Center, LLC submits Notice of Self-Certification of Exempt Wholesale Generator Status.

Filed Date: 3/28/25.

Accession Number: 20250328-5439.

Comment Date: 5 p.m. ET 4/18/25.

Docket Numbers: EG25-271-000.

Applicants: Desert Breeze Solar, LLC.

Description: Desert Breeze Solar, LLC submits Notice of Self-Certification of Exempt Wholesale Generator Status.

Filed Date: 3/31/25.

Accession Number: 20250331-5432.

Comment Date: 5 p.m. ET 4/21/25.

Take notice that the Commission received the following electric rate filings:

Docket Numbers: ER25-1248-000.

Applicants: PJM Interconnection, L.L.C.

Description: Report Filing: Supplement to Revisions to OA, Sch. 12 & RAA, Sch. 17 re: 4Q 2024 Membership to be effective N/A.

Filed Date: 3/31/25.

Accession Number: 20250331-5373.

Comment Date: 5 p.m. ET 4/21/25.

Docket Numbers: ER25-1309-001.

Applicants: MPH Elwood, LLC.

Description: Tariff Amendment: Amendment to Application for MBR Authority, Request for Shorten Comment Period to be effective 12/31/9998.

Filed Date: 3/31/25.

Accession Number: 20250331-5218.

Comment Date: 5 p.m. ET 4/21/25.

Docket Numbers: ER25-1817-000.

Applicants: Riverstart Solar Park LLC.

Description: Initial Rate Filing: Certificate of Concurrence for Shared Facilities Agreement to be effective3/29/2025.

Filed Date: 3/28/25.

Accession Number: 20250328-5375.

Comment Date: 5 p.m. ET 4/18/25.

Docket Numbers: ER25-1818-000.

Applicants: Riverstart Solar Park III LLC.

Description: Initial Rate Filing: Certificate of Concurrence for Shared Facilities Agreement to be effective3/29/2025.

Filed Date: 3/28/25.

Accession Number: 20250328-5378.

Comment Date: 5 p.m. ET 4/18/25.

Docket Numbers: ER25-1819-000.

Applicants: NorthWestern Corporation.

Description: 205(d) Rate Filing: Revised Exhibits to Montana Intertie Agreement to be effective 3/1/2024.

Filed Date: 3/28/25.

Accession Number: 20250328-5384.

Comment Date: 5 p.m. ET 4/18/25.

Docket Numbers: ER25-1820-000.

Applicants: New England Power Pool Participants Committee.

Description: 205(d) Rate Filing: Apr 2025 Membership Filing to be effective 3/1/2025.

Filed Date: 3/31/25.

Accession Number: 20250331-5000.

Comment Date: 5 p.m. ET 4/21/25.

Docket Numbers: ER25-1821-000.

Applicants: Entergy Louisiana, LLC.

Description: 205(d) Rate Filing: Entergy Louisiana-Lafitte Solar LBA Agreement to be effective 6/1/2025.

Filed Date: 3/31/25.

Accession Number: 20250331-5094.

Comment Date: 5 p.m. ET 4/21/25.

Docket Numbers: ER25-1822-000.

Applicants: Entergy Louisiana, LLC.

Description: 205(d) Rate Filing: Entergy Louisiana-Pelican Power LBA Agreement to be effective 6/1/2025.

Filed Date: 3/31/25.

Accession Number: 20250331-5098.

Comment Date: 5 p.m. ET 4/21/25.

Docket Numbers: ER25-1823-000.

Applicants: Midcontinent Independent System Operator, Inc., American Transmission Company LLC.

Description: 205(d) Rate Filing: American Transmission Company LLC submits tariff filing per 35.13(a)(2)(iii: 2025-03-31_SA 4464 ATC-WPL E&P (J2055) to be effective 5/31/2025.

Filed Date: 3/31/25.

Accession Number: 20250331-5164.

Comment Date: 5 p.m. ET 4/21/25.

Docket Numbers: ER25-1824-000.

Applicants: Southern California Edison Company.

Description: 205(d) Rate Filing: SCE 2025 TACBAA Update to be effective6/1/2025.

Filed Date: 3/31/25.

Accession Number: 20250331-5215.

Comment Date: 5 p.m. ET 4/21/25.

Docket Numbers: ER25-1825-000.

Applicants: Entergy Arkansas, LLC, Entergy Louisiana, LLC, Entergy Mississippi, LLC, Entergy New Orleans, LLC, Entergy Texas, Inc.

Description: MSS-4 Formula Rate Protocols Informational Filing for 2023 Test Year of Entergy Arkansas, LLC, et al.

Filed Date: 3/31/25.

Accession Number: 20250331-5224.

Comment Date: 5 p.m. ET 4/21/25.

Docket Numbers: ER25-1826-000.

Applicants: Midcontinent Independent System Operator, Inc.

Description: 205(d) Rate Filing: 2025-03-31_SA 4463 NSP-Timberwolf Wind FSA (J967) to be effective 5/31/2025.

Filed Date: 3/31/25.

Accession Number: 20250331-5248.

Comment Date: 5 p.m. ET 4/21/25.

Docket Numbers: ER25-1827-000.

Applicants: Cubico Palmetto Lessee, LLC.

Description: Tariff Amendment: Notice of Cancellation of Market-Based Rate Tariff and Tariff ID to be effective 4/1/2025.

Filed Date: 3/31/25.

Accession Number: 20250331-5253.

Comment Date: 5 p.m. ET 4/21/25.

Docket Numbers: ER25-1828-000.

Applicants: Midcontinent Independent System Operator, Inc., Michigan Electric Transmission Company, LLC.

Description: 205(d) Rate Filing: Michigan Electric Transmission Company, LLC submits tariff filing per 35.13(a)(2)(iii: 2025-03-31_SA 4465 METC-Coldwater IFA to be effective5/31/2025.

Filed Date: 3/31/25.

Accession Number: 20250331-5271.

Comment Date: 5 p.m. ET 4/21/25.

Docket Numbers: ER25-1829-000.

Applicants: Midcontinent Independent System Operator, Inc., Michigan Electric Transmission Company, LLC.

Description: 205(d) Rate Filing: Michigan Electric Transmission Company, LLC submits tariff filing per 35.13(a)(2)(iii: 2025-03-31_SA 4466 METC-City of Marshall IFA to be effective 5/31/2025.

Filed Date: 3/31/25.

Accession Number: 20250331-5278.

Comment Date: 5 p.m. ET 4/21/25.

Docket Numbers: ER25-1830-000.

Applicants: Alabama Power Company, Georgia Power Company, Mississippi Power Company.

Description: Tariff Amendment: Alabama Power Company submits tariff filing per 35.15: Origis Development (New Augusta Solar & Storage) LGIA Termination Filing to be effective 3/31/2025.

Filed Date: 3/31/25.

Accession Number: 20250331-5290.

Comment Date: 5 p.m. ET 4/21/25.

Docket Numbers: ER25-1831-000.

Applicants: Southwest Power Pool, Inc.

Description: 205(d) Rate Filing: 2236R18 Golden Spread Electric Cooperative, Inc. NITSA NOA to be effective 3/1/2025.

Filed Date: 3/31/25.

Accession Number: 20250331-5291.

Comment Date: 5 p.m. ET 4/21/25.

Docket Numbers: ER25-1832-000.

Applicants: Duke Energy Indiana, LLC.

Description: 205(d) Rate Filing: 2025 Annual Reconciliation filing—DEI Rate Schedule No. 253 to be effective 7/1/2024.

Filed Date: 3/31/25.

Accession Number: 20250331-5296.

Comment Date: 5 p.m. ET 4/21/25.

Docket Numbers: ER25-1833-000.

Applicants: Northern States Power Company, a Minnesota corporation.

Description: 205(d) Rate Filing: 2025-03-27 SEY—SISA to be effective 4/1/2025.

Filed Date: 3/31/25.

Accession Number: 20250331-5298.

Comment Date: 5 p.m. ET 4/21/25.

Docket Numbers: ER25-1834-000.

Applicants: Basin Electric Power Cooperative, Southwest Power Pool, Inc.

Description: 205(d) Rate Filing: Basin Electric Power Cooperative submits tariff filing per 35.13(a)(2)(iii: Basin Electric Power Cooperative Formula Rate Revisions to be effective 1/1/2025.

Filed Date: 3/31/25.

Accession Number: 20250331-5329.

Comment Date: 5 p.m. ET 4/21/25.

Docket Numbers: ER25-1835-000.

Applicants: Florida Power & Light Company.

Description: 205(d) Rate Filing: Amendments to NWFL Transmission Formula Rate Template and Procedures to be effective 5/31/2025.

Filed Date: 3/31/25.

Accession Number: 20250331-5425.

Comment Date: 5 p.m. ET 4/21/25.

Take notice that the Commission received the following electric securities filings:

Docket Numbers: ES25-37-000.

Applicants: PJM Interconnection, L.L.C.

Description: Application Under Section 204 of the Federal Power Act for Authorization to Issue Securities of PJM Interconnection, L.L.C.

Filed Date: 3/28/25.

Accession Number: 20250328-5446.

Comment Date: 5 p.m. ET 4/18/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

Dated: March 31, 2025.
Carlos D. Clay,
Deputy Secretary.

[FR Doc. 2025-05823 Filed 4-3-25; 8:45 am]

BILLING CODE 6717-01-P